DEPARTMENT OF HEALTH AND HUMAN SERVICES

National Institutes of Health

Request for Chimpanzee Sanctuary Capability Statements

The purpose of this Notice is to determine the capabilities of any private nonprofit organizations interested in serving as a contractor to provide lifetime care for chimpanzees as required under the “Chimpanzee Health Improvement, Maintenance, and Protection (CHIMP) Act,” Public Law 106-551, which amended Section 481C of the Public Health Service Act on December 20, 2000.

To carry out the CHIMP Act, the National Institutes of Health (NIH), acting on behalf of the Secretary of Health and Human Services, will, among other things:

• Seek to award a contract to a private nonprofit organization that meets the detailed requirements set forth in the Act. A complete copy of the Act is available at http://thomas.loc.gov/ or from the Contract Office listed below. Interested institutions should pay particular attention to the sections titled “Chimpanzees Accepted Into System” [Section 481C(d)(2)(A)-(K)], “Requirements” [Section 481C(e)(2)(A)-(H)], “Board of Directors” [Section 481C(e)(3)], and “Requirement of Matching Funds” [Section 481C(e)(4)]; and

• Identify the number of chimpanzees no longer needed for research that are available for placement in the sanctuary.

In order for NIH to assess those organizations capable of responding to a Request for Proposals, we are requesting that interested organizations submit capability statements. When responding to this notice, organizations are asked to review the requirements of the CHIMP Act and address the following 5 items:

1. Nonhuman Primate Management Experience and Stability: (a) Describe when your organization was established; (b) its management structure; (c) the staff that would be assigned to this project; (d) their experience in managing and caring for chimpanzees; (e) evidence of financial stability and resources that can be brought to the project;

2. Matching Funds: Provide evidence of your organization's ability to make non-Federal contributions in cash or in-kind, in an amount not less than 10% of the establishment costs (including construction costs), and 25% of the yearly operational expenses;

3. Capacity to Hold Chimpanzees: Due to cost effectiveness constraints aimed at achieving the savings foreseen by the Congressional Budget Office, potential offerors must demonstrate the capacity to house and care for at least 75 chimpanzees. Describe your facility's present or planned capacity to manage and operate a system holding at least 75 chimpanzees, with the future possibility of expansion at the original or additional sites;

4. Working with Diverse Groups: Describe your ability and willingness to work with members of the animal protection community, NIH, and a wide variety of other interested parties. In addition, describe your experience or plans for using a board of directors experienced in captive chimpanzee management, animal protection, behavioral primatology, business management, laboratory animal medicine, accreditation of animal facilities, and biohazard containment;

5. Board of Directors: Submit letters of commitment for possible members to serve on the board of directors of the sanctuary. Indicate the full name, credentials, expertise, and organizational affiliation(s) for each person.

If possible, please address the 5 items above in a capability statement of no more than 30 pages in length. The capability statement will neither bind nor obligate any organization at this time. If a Request for Proposals (RFP) is issued, the NIH will transmit a copy of it to all organizations whose capability statements have been received by the due date of May 15, 2001. An announcement of availability of the RFP will also be made in the Commerce Business Daily and in the NIH Guide for Grants and Contracts. Please send three copies of the capability statement with an accompanying signed transmittal letter so that they will be received at the following address by May 15, 2001: Mr. Robert Best, Contracting Officer, National Heart, Lung, and Blood Institute, DEA, Contracts Operations Branch, Two Rockledge Centre, Room 6100, 6701 Rockledge Drive, MSC 7902, Bethesda, MD 20892-7902.

Dated: April 12, 2001.
Ruth L. Kirschstein,
Acting Director, NIH.

[FR Doc. 01-9681 Filed 4-18-01; 8:45 am]

BILLING CODE 4140-01-P